DEPARTMENT OF ENERGY

Federal Energy Regulatory Commission

Combined Notice of Filings #2

Take notice that the Commission received the following electric rate filings:

Docket Numbers: ER13-2147-000.

Applicants: Frontier Utilities New York LLC.

Description: Normal filing name change to be effective 8/14/2013.

Filed Date: 8/13/13.

Accession Number: 20130813-5049.

Comments Due: 5 p.m. ET 9/3/13.

Docket Numbers: ER13-2148-000.

Applicants: Southern California Edison Company.

Description: Agmt for Additional SCE Connection to Eldorado System with LADWP SRP NPC to be effective 8/13/2013.

Filed Date: 8/13/13.

Accession Number: 20130813-5087.

Comments Due: 5 p.m. ET 9/3/13.

Docket Numbers: ER13-2149-000.

Applicants: ISO New England Inc.

Description: EL13-72-000 to be effective 6/25/2013.

Filed Date: 8/13/13.

Accession Number: 20130813-5098.

Comments Due: 5 p.m. ET 9/3/13.

Docket Numbers: ER13-2150-000.

Applicants: Southern California Edison Company.

Description: Southern California Edison Company submits Notice of Cancellation of Interim Agmt to be effective 8/13/2013.

Filed Date: 8/13/13.

Accession Number: 20130813-5114.

Comments Due: 5 p.m. ET 9/3/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 13, 2013.
Nathaniel J. Davis, Sr.,
Deputy Secretary.

[FR Doc. 2013-20402 Filed 8-20-13; 8:45 am]

BILLING CODE 6717-01-P